DEPARTMENT OF THE INTERIOR

Fish and Wildlife Service

[FWS-HQ-IA-2017-N007; FXIA16710900000-167-FF09A30000]

Information Collection Request Sent to the Office of Management and Budget (OMB) for Approval; Import of Sport-Hunted African Elephant Trophies

AGENCY: Fish and Wildlife Service, Interior.

ACTION: Notice; request for comments.

SUMMARY: We (the U.S. Fish and Wildlife Service) have sent an Information Collection Request (ICR) to OMB for review and approval. We summarize the ICR below and describe the nature of the collection and the estimated burden and cost. This information collection is scheduled to expire on January 31, 2017. We may not conduct or sponsor and a person is not required to respond to a collection of information unless it displays a currently valid OMB control number. However, under OMB regulations, we may continue to conduct or sponsor this information collection while it is pending at OMB.

DATES: You must submit comments on or before February 17, 2017.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, U.S. Fish and Wildlife Service, MS: BPHC, 5275 Leesburg Pike, Falls Church, VA 22041-3803 (mail); or madonna_baucum@fws.gov (email). Please include “1018-0164” in the subject line of your comments.

FOR FURTHER INFORMATION CONTACT: To request additional information about this ICR, contact Madonna L. Baucum, Information Collection Clearance Officer, U.S. Fish and Wildlife Service at madonna_baucum@fws.gov (email), or (703) 358-2503 (telephone). You may review the ICR online at http://www.reginfo.gov. Follow the instructions to review Department of the Interior collections under review by OMB.

SUPPLEMENTARY INFORMATION:

I. Abstract

Applications for permits for import of African elephant sport-hunted trophies from Appendix-I populations under the Convention on International Trade in Endangered Species of Wild Fauna and Flora (CITES) are approved under OMB Control Number 1018-0093, which expires May 31, 2017. Under newly revised regulations at 50 CFR 17.40(e), import permits must now also be obtained for import of African elephant sport-hunted trophies from CITES Appendix-II populations. Based on this change, we expect to receive an additional 300 applications for permits per year. The burden associated with these additional applications is the basis of this information collection. If OMB grants regular approval, we will include the burden associated with the expected 300 additional applications in OMB Control Number 1018-0093 when we renew the approval in May 2017.

II. Data

OMB Control Number: 1018-0164.

Title: Import of Sport-Hunted African Elephant Trophies, 50 CFR 17.

Service Form Number: 3-200-19, Importing African elephant trophies from Appendix-II populations.

Type of Request: Extension of a currently approved collection.

Description of Respondents: Individuals.

Respondent's Obligation: Required to obtain or retain a benefit.

Frequency of Collection: On occasion.

Number of Respondents: 300.

Number of Annual Responses: 300.

Completion Time per Response: 20 minutes.

Total Annual Burden Hours: 100 hours.

Estimated Annual Non-hour Burden Cost: $30,000, primarily associated with application fees. The application fee is $100 per application.

III. Comments

On June 9, 2016, we published in the Federal Register (81 FR 37207) a notice of our intent to request that OMB renew approval for this information collection. In that notice, we solicited comments for 60 days, ending on August 8, 2016. We received the following substantive comments in response to this request.

Comment 1: The International Fund for Animal Welfare and the Natural Resources Defense Council submitted a joint response to the notice. They expressed their strong support for the permit requirement for import of sport-hunted trophies from all African elephant populations (both Appendix-I and Appendix-II populations) and the associated collection of information. They said that prospective trophy importers should be required to provide information on the specific elephant and population, which should be added to section E2 and/or E3 of FWS Form 3-200-19. Such information should include but not be limited to (1) sex and approximate age of the elephant and (2) approximate status of the individual within the herd's hierarchy. In addition, they stated that section E5 of FWS Form 3-200-19 should be rephrased to require trophy hunters to provide information regarding “how the funds from license/trophy fees will be spent [and] what portion of the hunting fee will support conservation,” because they believe that the current language on the FWS form suggests that hunters may provide this information at their own discretion. They also assert that in section E5, the Service should include specific subquestions and “require supporting documentation that places an increased burden on hunters to prove that their trophy meets the enhancement standard.”

Response to Comment 1: We believe that Form 3-200-19 requests the information we need from applicants. Hunters often apply for import permits before leaving on safari and therefore are not in a position to provide information on the specific elephant and population. In addition, hunters are not necessarily in a position to know what portion of their hunting fees will support conservation. This is information that we acquire from the countries of origin, not from permit applicants.

Comment 2: With regard to the cost burden, the International Fund for Animal Welfare and the Natural Resources Defense Council claim that the permit application fee is too small and that it should be increased to fully compensate FWS for costs associated with performing individualized (as opposed to country-wide) enhancement findings. They note that the 2015 market rate for an African elephant hunting package was between $25,000 and $60,000, and add that the $100 permit application fee “imposes trivial additional costs on the importer.”

Response to Comment 2: We are currently reevaluating our permit fees and may, in the future, publish a proposed rule to revise our fee structure.

Comment 3: The Humane Society of the United States and Humane Society International jointly submitted comments in support of the request for extension of approval for information collection through FWS Form 3-200-19 from all importers of African elephant sport-hunted trophies. They stated their belief that it is critically important that this information is collected from applicants for import permits under the Endangered Species Act (ESA; 16 U.S.C. 1531 et seq.), because the information “is essential for FWS to comply with its statutory duties to protect African elephants from threats that jeopardize the species' continued existence.” They also believe that FWS Form 3-200-19 requests the “bare minimum information needed” from an applicant.

These joint commenters also stated that the current “paltry” applicant fee of $100 for an African elephant sport-hunted trophy import permit is too low and should be increased. They assert that the $100 application fee for import of trophies “cannot possibly reimburse the agency for all of its costs associated with ensuring that applicants are eligible for permits,” and they “urge OMB to formally request that FWS amend this fee structure.”

Response to Comment 3: See our response to Comment 2.

Comment 4: Conservation Force submitted comments in opposition to the information collection, stating that “it is unnecessary and over burdensome for both the U.S. Fish and Wildlife Service . . . and permit applicants/tourist safari hunters, and it will not provide any useful information.” They contend that it is “a burden without a benefit” and that the burden cannot be reduced unless the permit requirement is removed. Conservation Force also asserts that the burden estimate is inaccurate, because the Service has not considered its current backlog of applications in assessing its ability to process another 300 permits, the additional costs and demands for seizures and law enforcement actions, and the permit renewal fee.

Response to Comment 4: Our newly revised regulations require that we issue an ESA import permit for import of all African elephant sport-hunted trophies. We are seeking authorization to collect the information necessary for us to issue these permits. The burden estimates are developed in accordance with the Paperwork Reduction Act. In estimating the burden to the Service, we consider the time required to process an application, the cost of processing an application, including the salaries of the people doing the work, and the estimated number of applications. In estimating the burden to the applicant, we consider the time it takes to complete an application, including gathering the necessary information, an estimate of the salary of the person completing the form, and the permit fee. Based on our experience, we believe our burden estimates are accurate.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: January 11, 2017.
Tina A. Campbell,
Chief, Division of Policy and Directives Management, U.S. Fish and Wildlife Service.

[FR Doc. 2017-00960 Filed 1-17-17; 8:45 am]

BILLING CODE 4333-15-P